DEPARTMENT OF STATE

[Delegation of Authority No. 317]

Delegation by the Secretary of State to the Under Secretary for Arms Control and International Security of Authorities in Section 821 of the Nuclear Proliferation Prevention Act

By virtue of the authority vested in me as Secretary of State, including Section 1 of the State Department Basic Authorities Act, as amended (22 U.S.C. 2651a) and the Presidential Memorandum for the Secretary of State, the Secretary of the Treasury, the Secretary of Defense, the Secretary of Commerce, and the Director of National Intelligence—Assignment of Certain Functions Relating to Procurement Sanctions on Persons Engaging in Export Activities that Contribute to Proliferation, dated March 5, 2007 (72 FR 11283), I hereby delegate to the Under Secretary for Arms Control and International Security, the functions conferred on the Secretary of State by said Presidential Memorandum under section 821 of the Nuclear Proliferation Prevention Act, FY 94-95 Foreign Relations Authorization Act (Pub. L. 103-236) (the Act), relating to sanctions for nuclear proliferation.

All functions assigned under the Act shall be exercised utilizing the appropriate interagency groups prior to exercising the sanction authority delegated herein.

Any act, executive order, regulation, or procedure subject to, or affected by, this delegation shall be deemed to be such act, executive order, regulation, or procedure as amended from time to time.

Notwithstanding this delegation of authority, the Secretary or the Deputy Secretary may at any time exercise any authority or function delegated by this delegation of authority.

This delegation of authority shall be published in the Federal Register.

Dated: October 1, 2008.
Condoleezza A. Rice,
Secretary of State, Department of State.

[FR Doc. E8-24916 Filed 10-17-08; 8:45 am]

BILLING CODE 4710-10-P